FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington DC 20551-0001, not later than September 12, 2024.

A. Federal Reserve Bank of New York (Ivan Hurwitz, Head of Bank Applications) 33 Liberty Street, New York, NY 10045-0001. Comments can also be sent electronically to Comments.applications@ny.frb.org:

1. Liberty Strategic Capital (CEN) Holdings, LLC; Liberty 77 Fund L.P.; Liberty 77 Fund International L.P.; Liberty 77 Capital GenPar L.P.; Liberty 77 Capital UGP L.L.C.; Liberty 77 Capital L.P., as the investment manager of Liberty Strategic Capital (CEN) Holdings, LLC; Liberty 77 Capital Partners L.P., the general partner of Liberty 77 Capital L.P.; Liberty Capital L.L.C., the general partner of Liberty 77 Capital Partners L.P.; STM Partners LLC, which indirectly controls Liberty Strategic Capital (CEN) Holdings, LLC, and Liberty 77 Capital L.P.; The Steven T. Mnuchin Revocable Trust, Steven T. Mnuchin, as trustee, the President of STM Partners LLC, and managing partner of Liberty 77 Capital L.P., all of Washington, DC; The Steven Mnuchin Dynasty Trust I, Riverside, Connecticut; and The Steven Mnuchin 2007 Family Trust, Washington, Connecticut; each individually and to become members of the Liberty Control Group, a group acting in concert, to acquire voting shares of New York Community Bancorp, Inc., and thereby indirectly acquire voting shares of Flagstar Bank, National Association, both of Hicksville, New York. In addition, Charles Dowling, Riverside, Connecticut, as trustee of The Steven Mnuchin Dynasty Trust I, and Alan Mnuchin, Washington, Connecticut, as trustee of The Steven Mnuchin 2007 Family Trust, to acquire control of voting shares of New York Community Bancorp, Inc., as members of the Liberty Control Group.

Board of Governors of the Federal Reserve System.
Erin Cayce,
Assistant Secretary of the Board.

[FR Doc. 2024-19382 Filed 8-27-24; 8:45 am]

BILLING CODE P